DEPARTMENT OF ENERGY

Federal Energy Regulatory Commission

[Docket Nos. PR08-30-000, PR08-30-001, PR07-12-003, PR07-12-004]

Enterprise Texas Pipeline, LLC Notice of Offer of Settlement

November 24, 2009.

Take notice that on November 23, 2009, Enterprise Texas Pipeline, LLC (Enterprise Texas) filed an Offer of Settlement in the above-docketed proceedings. Included in its filing was a request to shorten the period for filing initial and reply comments in response to the Settlement. We are shortening the date for filing initial comments to and including December 3, 2009. Reply comments should be filed on or before December 14, 2009.

Kimberly D. Bose,
Secretary.

[FR Doc. E9-28795 Filed 12-1-09; 8:45 am]

BILLING CODE 6717-01-P